FEDERAL DEPOSIT INSURANCE CORPORATION

FDIC Systemic Resolution Advisory; Notice of Meeting

AGENCY: Federal Deposit Insurance Corporation (FDIC).

ACTION: Notice of open meeting.

SUMMARY: In accordance with the Federal Advisory Committee Act, notice is hereby given of a meeting of the FDIC Systemic Resolution Advisory Committee. The Advisory Committee will provide advice and recommendations on a broad range of policy issues regarding the resolution of systemically important financial companies. The meeting is open to the public. Out of an abundance of caution related to current and potential coronavirus developments, the public's means to observe this Systemic Resolution Advisory Committee meeting will be via a Webcast live on the internet. In addition, the meeting will be recorded and subsequently made available on-demand approximately two weeks after the event. To view the live event, visit http://fdic.windrosemedia.com. To view the recording, visit http://fdic.windrosemedia.com/index.php?category=Systemic+Resolution+Advisory+Committee. Observers requiring auxiliary aids (e.g., sign language interpretation) for this meeting should call 703-562-2404 (Voice) or 703-649-4354 (Video Phone) to make necessary arrangements.

DATES: Thursday, October 1, 2020, from 9:00 a.m. to 12:30 p.m.

FOR FURTHER INFORMATION CONTACT: Requests for further information concerning the meeting may be directed to Mr. Robert E. Feldman, Committee Management Officer of the FDIC, at (202) 898-7043.

SUPPLEMENTARY INFORMATION: Agenda: The agenda will include a discussion of a range of issues and developments related to the resolution of systemically important financial companies. The agenda may be subject to change. Any changes to the agenda will be announced at the beginning of the meeting.

Type of Meeting: This meeting of the Systemic Resolution Advisory Committee will be Webcast live via the internet http://fdic.windrosemedia.com. For optimal viewing, a high-speed internet connection is recommended.

Federal Deposit Insurance Corporation.
Dated at Washington, DC, on September 10, 2020.
Robert E. Feldman,
Executive Secretary.

[FR Doc. 2020-20392 Filed 9-15-20; 8:45 am]

BILLING CODE 6714-01-P